DEPARTMENT OF DEFENSE

Office of the Secretary

[Docket ID: DoD-2023-OS-0109; Req No. OS-2024-00035-FR]

Proposed Collection; Comment Request

AGENCY: Office of the Under Secretary of Defense for Personnel and Readiness (OUSD(P&R)), Department of Defense (DoD).

ACTION: 60-Day information collection notice.

SUMMARY: In compliance with the Paperwork Reduction Act of 1995, the OUSD(P&R), DoD, announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 16, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to: OEPM, Voluntary Education, Pentagon, Room 2E573 Washington, DC 20301-1500, Jonathan Woods, (571) 372-5353.

SUPPLEMENTARY INFORMATION:

Title; Associated Form; and OMB Number: Postsecondary Education Complaint Intake System; DD-2961; OMB Control Number 0704-0501.

Needs and Uses: This collection is necessary to obtain, document, and respond to complaints, questions, and other issues concerning educational programs and services provided to military students, and their adult Family members. It allows DoD to monitor and track the types of complaint issues that are submitted, the complaint content, the educational institutions the complaints have been filed against, the type of education benefits being used, and the branch of the military Service. The information collected via the DoD Intake form is used to assist in further developing and shaping of relevant mitigating and preventative measures concerning abusive, deceptive, and fraudulent practices against Service members and Spouses who are pursuing higher education utilizing Tuition Assistance and My Career Advancement Account.

Affected Public: Individuals or households.

Annual Burden Hours: 37.5.

Number of Respondents: 150.

Responses per Respondent: 1.

Annual Responses: 150.

Average Burden Per Response: 15 minutes.

Frequency: On occasion.

Dated: November 7, 2023.
Aaron T. Siegel,
Alternate OSD Federal Register Liaison Officer, Department of Defense.

[FR Doc. 2023-25116 Filed 11-14-23; 8:45 am]

BILLING CODE 6001-FR-P